DEPARTMENT OF COMMERCE

National Oceanic and Atmospheric Administration

Draft Supplemental Programmatic Environmental Assessment for Fisheries Research Conducted and Funded by the Alaska Fisheries Science Center; Correction

AGENCY: National Marine Fisheries Service (NMFS), National Oceanic and Atmospheric Administration (NOAA), US Department of Commerce.

ACTION: Notice of availability of a Draft Supplemental Programmatic Environmental Assessment; correction.

SUMMARY: NMFS is correcting the link that was in the ADDRESSES of the Notice of Availability to the “Draft Supplemental Programmatic Environmental Assessment (SPEA) for Fisheries Research Conducted and Funded by the Alaska Fisheries Science Center.” This notice provides a correction to that website address; all other information is unchanged. The correct weblink is https://www.fisheries.noaa.gov/action/draft-supplemental-programmatic-environmental-assessment-fisheries-research-conducted-and-0.

DATES: Comments and information must be received no later than June 18, 2024.

ADDRESSES: Comments on the Draft SPEA should be addressed to Rebecca Reuter, Environmental Compliance Coordinator, NOAA/NMFS/AFSC, 7600 Sand Point Way NE, Seattle, WA 98115

The mailbox address for providing email comments is: nmfs.afsc.spea@noaa.gov.

NMFS is not responsible for email comments sent to addresses other than the one provided here. Comments sent via email, including all attachments, must not exceed a 10-megabyte file size.

A copy of the Draft SPEA may be obtained by writing to the address specified above, telephoning the contact listed below (see FOR FURTHER INFORMATION CONTACT), or visiting the internet at: https://www.fisheries.noaa.gov/action/draft-supplemental-programmatic-environmental-assessment-fisheries-research-conducted-and-0.

Documents cited in this notice may also be viewed, by appointment, during regular business hours at the aforementioned address.

FOR FURTHER INFORMATION CONTACT: Rebecca Reuter, email: rebecca.reuter@noaa.gov, phone: (206) 526-4234.

SUPPLEMENTARY INFORMATION:

Correction

In the Federal Register of April 19, 2024, in FR Doc. 2024-07096, on page 28749, correct the link in the ADDRESSES to say: https://www.fisheries.noaa.gov/action/draft-supplemental-programmatic-environmental-assessment-fisheries-research-conducted-and-0.

Dated: April 19, 2024.
Robert Foy,
Science and Research Director, Alaska Fisheries Science Center, National Marine Fisheries Service.

[FR Doc. 2024-09122 Filed 4-26-24; 8:45 am]

BILLING CODE 3510-22-P